DEPARTMENT OF THE INTERIOR

Fish and Wildlife Service

[FWS-HQ-IA-2013-N283; FXIA16710900000-145-FF09A30000]

Endangered Species; Receipt of Applications for Permit

AGENCY: Fish and Wildlife Service, Interior.

ACTION: Notice of receipt of applications for permit.

SUMMARY: We, the U.S. Fish and Wildlife Service, invite the public to comment on the following applications to conduct certain activities with endangered species. With some exceptions, the Endangered Species Act (ESA) prohibits activities with listed species unless Federal authorization is acquired that allows such activities.

DATES: We must receive comments or requests for documents on or before January 15, 2014.

ADDRESSES: Brenda Tapia, Division of Management Authority, U.S. Fish and Wildlife Service, 4401 North Fairfax Drive, Room 212, Arlington, VA 22203; fax (703) 358-2280; or email DMAFR@fws.gov.

FOR FURTHER INFORMATION CONTACT: Brenda Tapia, (703) 358-2104 (telephone); (703) 358-2280 (fax); DMAFR@fws.gov (email).

SUPPLEMENTARY INFORMATION:

I. Public Comment Procedures

A. How do I request copies of applications or comment on submitted applications?

Send your request for copies of applications or comments and materials concerning any of the applications to the contact listed under ADDRESSES. Please include the Federal Register notice publication date, the PRT-number, and the name of the applicant in your request or submission. We will not consider requests or comments sent to an email or address not listed under ADDRESSES. If you provide an email address in your request for copies of applications, we will attempt to respond to your request electronically.

Please make your requests or comments as specific as possible. Please confine your comments to issues for which we seek comments in this notice, and explain the basis for your comments. Include sufficient information with your comments to allow us to authenticate any scientific or commercial data you include.

The comments and recommendations that will be most useful and likely to influence agency decisions are: (1) Those supported by quantitative information or studies; and (2) Those that include citations to, and analyses of, the applicable laws and regulations. We will not consider or include in our administrative record comments we receive after the close of the comment period (see DATES) or comments delivered to an address other than those listed above (see ADDRESSES).

B. May I review comments submitted by others?

Comments, including names and street addresses of respondents, will be available for public review at the street address listed under ADDRESSES. The public may review documents and other information applicants have sent in support of the application unless our allowing viewing would violate the Privacy Act or Freedom of Information Act. Before including your address, phone number, email address, or other personal identifying information in your comment, you should be aware that your entire comment—including your personal identifying information—may be made publicly available at any time. While you can ask us in your comment to withhold your personal identifying information from public review, we cannot guarantee that we will be able to do so.

II. Background

To help us carry out our conservation responsibilities for affected species, and in consideration of section 10(a)(1)(A) of the Endangered Species Act of 1973, as amended (16 U.S.C. 1531 et seq.), along with Executive Order 13576, “Delivering an Efficient, Effective, and Accountable Government,” and the President's Memorandum for the Heads of Executive Departments and Agencies of January 21, 2009—Transparency and Open Government (74 FR 4685; January 26, 2009), which call on all Federal agencies to promote openness and transparency in Government by disclosing information to the public, we invite public comment on these permit applications before final action is taken.

III. Permit Applications

A. Endangered Species

Applicant: Dragonwood Conservancy, Eustis, FL; PRT-47027A

The applicant requests amendment of their captive-bred wildlife registration under 50 CFR 17.21(g) to include Cuban ground iguana (Cyclura nubila nubila), Grand Cayman blue iguana (Cyclura lewisi), and Cayman Brac ground iguana (Cyclura nubila caymanensis) to enhance the species' propagation or survival. This notification covers activities to be conducted by the applicant over a 5-year period.

Applicant: Theresa Aronson, Sudbury, MA; PRT-21858B

The applicant requests a captive-bred wildlife registration under 50 CFR 17.21(g) for golden parakeet (Guarouba guarouba) to enhance the species' propagation or survival. This notification covers activities to be conducted by the applicant over a 5-year period.

Applicant: University of Illinois, Veterinary Diagnostic Laboratory, Maywood, IL; PRT-21469B

The applicant requests a permit to import biological samples from chimpanzee (Pan troglodytes) in Kigoma, Tanzania, for the purpose of enhancement of the survival of the species and scientific research on the incidence of disease in the wild population. This notification covers activities to be conducted by the applicant over a 5-year period.

Applicant: Memphis Zoological Garden, Memphis, TN; PRT-671021

The applicant requests renewal of their captive-bred wildlife registration under 50 CFR 17.21(g) for the following families and species, to enhance the species' propagation or survival. This notification covers activities to be conducted by the applicant over a 5-year period.

Family:

Bovidae

Canidae

Cebidae

Cercopithecidae

Equidae

Felidae (does not include jaguar, margay or ocelot)

Hominidae

Hylobatidae

Lemuridae

Rhinocerotidae

Columbidae

Falconidae

Gruidae

Psittacidae (does not include the thick-billed parrot)

Rallidae

Sturnidae (does not include Aplonis pelzelni)

Boidae (does not include Mona boa or Puerto Rican boa)

Columbidae

Crocodylidae (does not include the American crocodile)

Testudinidae

Varanidae

Species:

Asian elephant (Elephas maximus)

Pygmy slow loris (Nycticebus pygmaeus)

Jackass penguin (Spheniscus demersus)

Spotted pond turtle (Geoclemys hamiltonii)

Aquatic box turtle (Terrapene coahuila)

Applicant: San Antonio Zoological Garden, San Antonio, TX; PRT-680140

The applicant requests renewal and amendment of their captive-bred wildlife registration under 50 CFR 17.21(g) for the following families and species, to enhance the species' propagation or survival. This notification covers activities to be conducted by the applicant over a 5-year period.

Family:

Bovidae

Canidae

Cebidae

Cercopithecidae

Cervidae

Equidae

Felidae (does not include jaguar, margay or ocelot)

Hylobatidae

Lemuridae

Macropodidae

Rhinocerotidae

Tapiridae

Cathartidae

Gruidae

Psittacidae (does not include thick-billed parrot)

Sturnidae (does not include Aplonis pelzelni)

Threskiornithidae

Alligatoridae

Boidae (does not include Mona or Puerto Rican boas)

Crocodylidae (does not include American crocodile)

Iguanidae

Testudinidae

Species:

Asian elephant (Elephas maximus)

Panamanian golden frog (Atelopus zeteki)

Parma wallaby (Macropus parma)

Babirusa (Babyrousa babyrussa)

Pink pigeon (Nesoenas mayeri)

Aquatic box turtle (Terrapene coahuila)

Spotted pond turtle (Geoclemys hamiltonii)

Komodo monitor (Varanus komodoensis)

Aruba island rattlesnake (Crotalus durissus unicolor)

Japanese giant salamander (Andrias japonicus)

Asian bonytongue (Scleropages formosus)

Applicant: Ox Ranch, Uvalde, TX; PRT-10867B

The applicant requests renewal and amendment of their captive-bred wildlife registration under 50 CFR 17.21(g) to include the following species: Grevy's zebra (Equus grevyi), Asian wild ass (Equus hemionus), African wild ass (Equus africanus), Przewalski's horse (Equus przewalskii), bontebok (Damaliscus p. pygargus), seladang (Bos gaurus), banteng (Bos javanicus), and anoa (Bubalus depressicornis) to enhance the species' propagation or survival. This notification covers activities to be conducted by the applicant over a 5-year period.

Applicant: Wade Plouvier, Jacksonville, NC; PRT-17686A

The applicant requests renewal and amendment of their captive-bred wildlife registration under 50 CFR 17.21(g) for the following species: golden parakeet (Guarouba guarouba), Vinaceous parrot (Amazona vinacea), blue-throated parakeet (Pyrrhura cruentata), and blue-throated macaw (Ara glaucogularis) to enhance the species' propagation or survival. This notification covers activities to be conducted by the applicant over a 5-year period.

Applicant: Adrian Cieslak, Wallace, SC; PRT-19311B

The applicant requests a captive-bred wildlife registration under 50 CFR 17.21(g) for African dwarf crocodile (Osteolaemus tetraspis), Siamese crocodile (Crocodylus siamensis), Nile crocodile (Crocodylus niloticus), yacare caiman (Caiman yacare), and brown caiman (Caiman crocodilus fuscus) to enhance the species' propagation or survival. This notification covers activities to be conducted by the applicant over a 5-year period.

Applicant: Paul Bodnar, Cuyahoga Falls, OH; PRT-030006

The applicant requests amendment of their captive-bred wildlife registration under 50 CFR 17.21(g) to include the following families and species: Crocodilidae and spotted pond turtle (Geoclemys hamiltonii), yellow-spotted river turtle (Podocnemis unifilis), Cuban ground iguana (Cyclura nubila nubila), Grand Cayman blue iguana (Cyclura lewisi), and Jamaican boa (Epicrates subflavus) to enhance the species' propagation or survival. This notification covers activities to be conducted by the applicant over a 5-year period.

Applicant: Edward Hitchler, Comfort, TX; PRT-18991B

The applicant requests a captive-bred wildlife registration under 50 CFR 17.21(g) for addax (Addax nasomaculatus) to enhance the species' propagation or survival. This notification covers activities to be conducted by the applicant over a 5-year period.

Applicant: Edward Hitchler, Comfort, TX; PRT-18992B

The applicant requests a permit authorizing interstate and foreign commerce, export, and cull of excess addax (Addax nasomaculatus) from the captive herd maintained at their facility, for the purpose of enhancement of the survival of the species. This notification covers activities over a 5-year period.

Applicant: Geoffrey Ridder; Utopia, TX; PRT-00030B

The applicant requests a permit to export the sport-hunted trophy/trophies of one Scimitar-horned oryx (Oryx dammah) culled from a captive herd maintained in the state of Texas, for the purpose of enhancement of the survival of the species.

Applicant: Close-Up Creatures, LLC, Naples, FL; PRT-19478A

The applicant requests renewal and amendment of their captive-bred wildlife registration under 50 CFR 17.21(g) for the following species, to enhance the species' propagation or survival. This notification covers activities to be conducted by the applicant over a 5-year period.

Species:

Ring-tailed lemur (Lemur catta)

Black and white ruffed lemur (Varecia variegata)

Red ruffed lemur (Varecia rubra)

Leopard (Panthera pardus)

Anoa (Bubalus depressicornis)

South American tapir (Tapirus terrestris)

Golden parakeet (Guarouba guarouba)

Indian python (Python molurus molurus)

Nile crocodile (Crocodylus niloticus)

Radiated tortoise (Astrochelys radiata)

Galapagos tortoise (Chelonoidis nigra)

Applicant: University of Kansas Biodiversity Institute, Lawrence, KS; PRT-677648

The applicant requests a renewal of their permit to export and re-import non-living museum specimens of endangered and threatened species of plants and animals previously accessioned into the applicant's collection, for scientific research. This notification covers activities to be conducted by the applicant over a 5-year period.

Multiple Applicants

The following applicants each request a permit to import the sport-hunted trophy of one male bontebok (Damaliscus pygargus pygargus) culled from a captive herd maintained under the management program of the Republic of South Africa, for the purpose of enhancement of the survival of the species.

Applicant: David Bahl, Elkhorn, WI; PRT-21782B

Applicant: Wallace Phillips, College Station, TX; PRT-22136B

Applicant: Lynn Stinson, Escalon CA; PRT-22134B

Brenda Tapia,
Program Analyst/Data Administrator, Branch of Permits, Division of Management Authority.

[FR Doc. 2013-29760 Filed 12-13-13; 8:45 am]

BILLING CODE 4310-55-P